NATIONAL SCIENCE FOUNDATION

Committee Management Renewals

The NSF management officials have responsibility for the advisory committee listed below have determined that renewing this committee for another two years is necessary and in the public interest in connection wit the performance of duties imposed upon the Director, National Science Foundation (NSF), by 42 U.S.C. 1861 et seq. This determination follows consultation with the Committee Management Secretariat, General Services Administration.

Proposal Review Panel for Social and Economic Sciences, #10748.

Effective date for renewals is July 1, 2003. For more information, please contact Susanne Bolton, NSF, at (703) 292-7488.

Dated: June 25, 2003.
Susanne Bolton,
Committee Management Officer.

[FR Doc. 03-16479 Filed 6-27-03; 8:45 am]

BILLING CODE 7555-01-M